DEPARTMENT OF THE INTERIOR

Fish and Wildlife Service

Notice of Availability of the Draft Recovery Plan for Chaparral and Scrub Community Species East of San Francisco Bay, CA, for Review and Comment

AGENCY: Fish and Wildlife Service, Interior.

ACTION: Notice of document availability.

SUMMARY: We, the U.S. Fish and Wildlife Service, announce the availability of the Draft Recovery Plan for Chaparral and Scrub Community Species East of San Francisco Bay, California for public review. This draft recovery plan addresses six species, and includes recovery criteria and measures for one plant Arctostaphylos pallida (pallid manzanita) and one animal Alameda whipsnake (Masticophis lateralis euryxanthus) that are federally listed as threatened. In addition, four species of concern are addressed, three plants [Arctostaphylos manzanita ssp. laevigata (Contra Costa manzanita), Cordylanthus nidularius (Mt. Diablo bird's-beak), and Eriogonum truncatum (Mt. Diablo buckwheat)] and one animal (Berkeley kangaroo rat (Dipodomys heermanni berkeleyensis). The latter two are presumed extinct.

DATES: Comments on the draft recovery plan must be received on or before August 5, 2003, to receive our consideration.

ADDRESSES: Copies of the draft recovery plan are available for inspection, by appointment, during normal business hours at the following location: U.S. Fish and Wildlife Service, Sacramento Fish and Wildlife Office, 2800 Cottage Way, Room W-2605, Sacramento, California (telephone: 916-414-6600). Requests for copies of the draft recovery plan and written comments and materials regarding this plan should be addressed to Wayne S. White, Field Supervisor, Ecological Services, at the above address. An electronic copy of this draft recovery plan will also be made available at http://www.r1.fws.gov/ecoservices/endangered/recovery/default.htm.

FOR FURTHER INFORMATION CONTACT: Heather Bell or Kirsten Tarp, Fish and Wildlife Biologists, at the above address, or at 916-414-6600.

SUPPLEMENTARY INFORMATION:

Background

Recovery of endangered or threatened animals and plants to the point where they are again secure, self-sustaining members of their ecosystems is a primary goal of our endangered species program. To help guide the recovery effort, we are working to prepare recovery plans for most listed species native to the United States. Recovery plans describe actions considered necessary for the conservation of the species, establish criteria for downlisting or delisting listed species, and estimate time and cost for implementing the recovery measures needed.

The Endangered Species Act (16 U.S.C. 1531 et seq.) (Act), requires the development of recovery plans for listed species unless such a plan would not promote the conservation of a particular species. Section 4(f) of the Act requires that public notice and an opportunity for public review and comment be provided during recovery plan development. We will consider all information presented during the public comment period prior to approval of each new or revised recovery plan. Substantive technical comments will result in changes to the plan. Substantive comments regarding recovery plan implementation may not necessarily result in changes to the recovery plan, but will be forwarded to appropriate Federal or other entities so that they can take these comments into account during the course of implementing recovery actions. Individual responses to comments will not be provided.

The six species addressed in this draft recovery plan occur primarily in the chaparral and scrub habitats in a three county area east of the San Francisco Bay in California. All species addressed in the draft recovery plan are threatened by the loss, fragmentation, or degradation of chaparral habitat in the eastern San Francisco Bay Area. Therefore, areas currently, historically, or potentially occupied by the species are recommended for habitat protection and/or special management considerations.

The objectives of this draft recovery plan are to:

(1) Ameliorate the threats that caused Arctostaphylos pallida and Alameda whipsnake to be listed, and ameliorate any other newly identified threats in order to be able to delist these two federally listed species;

(2) Ensure the long-term conservation of Arctostaphylos manzanita ssp. laevigata and Cordylanthus nidularius; and

(3) Confirm the status of the two presumed extinct species of concern, Eriogonum truncatum and Berkeley kangaroo rat. If these species are not rediscovered, insights gained as to reasons for extirpation may assist in community restoration. If extant populations of these species are discovered, the ultimate goal would be to ensure their long-term conservation.

Public Comments Solicited

We solicit written comments on the draft recovery plan described. All comments received by the date specified above will be considered in developing a final recovery plan.

Authority

The authority for this action is section 4(f) of the Endangered Species Act, 16 U.S.C. 1533(f).

Dated: December 13, 2002.
Steve Thompson,
Manager, California/Nevada Operations Office, Region 1, Fish and Wildlife Service.

[FR Doc. 03-8325 Filed 4-4-03; 8:45 am]

BILLING CODE 4310-55-P